DEPARTMENT OF TRANSPORTATION

Surface Transportation Board

[STB Finance Docket No. 34680]

Union Pacific Railroad Company—Temporary Trackage Rights Exemption—BNSF Railway Company

BNSF Railway Company (BNSF), pursuant to a written trackage rights agreement entered into between BNSF and Union Pacific Railroad Company (UP), has agreed to grant temporary overhead trackage rights to UP over BNSF's line of railroad between BNSF milepost 69.6, near Spokane, WA, and BNSF milepost 1400.0, near Sandpoint, ID, a distance of approximately 70.0 miles.¹

¹ The trackage rights involve BNSF segments with non-contiguous mileposts. herefore, total mileage does not correspond to the milepost designations of the endpoints.

The transaction is scheduled to be consummated on April 6, 2005, and the temporary trackage rights will expire on or about May 1, 2005. The purpose of the temporary trackage rights is to facilitate maintenance work on UP lines.

As a condition to this exemption, any employees affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34680, must be filed with the Surface Transportation Board, 1925 K Street, NW., Washington, DC 20423-0001. In addition, a copy of each pleading must be served on Robert T. Opal, General Commerce Counsel, 1400 Douglas Street, STOP 1580, Omaha, NE 68179.

Board decisions and notices are available on our Web site at www.stb.dot.gov.

Decided: April 1, 2005.
By the Board, David M. Konschnik, Director, Office of Proceedings.
Vernon A. Williams,
Secretary.

[FR Doc. 05-6926 Filed 4-7-05; 8:45 am]

BILLING CODE 4915-01-P